DEPARTMENT OF AGRICULTURE

Foreign Agricultural Service

Notice of Request for Extension of Currently Approved Information Collection

AGENCY: Foreign Agricultural Service, USDA.

ACTION: Notice and request for comments.

SUMMARY: In accordance with the Paperwork Reduction Act of 1995, this notice announces the intention of the Foreign Agricultural Service to request an extension for a currently approved information collection for the USDA's Emerging Markets Program.

DATES: Comments on this notice must be received by April 19, 2021.

ADDRESSES: FAS invites interested persons to submit comments on this notice. Comments may be submitted by one of the following methods:

□ Federal eRulemaking Portal: This website provides the ability to type short comments directly into the comment filed or attach a file for lengthier comments. Go to http://www/regulations.gov. Follow the on-line instructions at the site for submitting comments.

□ Mail, hand delivery, or courier: Curt Alt, U.S. Department of Agriculture, Foreign Agricultural Service, 1400 Independence Avenue SW, Room 6512, Mail Stop 1052, Washington, DC 20250.

□ Email: PODAdmin@usda.gov. Include OMB Control Number 0551-0048 in the subject line of the message.

Instructions: All items submitted by mail or electronic mail must include the agency name. Comments received in response to this docket will be made available for public inspection and posted without change, including any personal information, to http://www.regulations.gov.

FOR FURTHER INFORMATION CONTACT: Curt Alt, Director, Program Operations Division, Foreign Agricultural Service, U.S. Department of Agriculture, Room 6512, Washington, DC 20250-1034, telephone: (202) 690-4784, e-mail: PODAdmin@usda.gov.

SUPPLEMENTARY INFORMATION:

Title: USDA Emerging Markets Program.

OMB Number: 0551-0048.

Expiration Date of Approval: Three years from approval date.

Type of Request: Extension of a currently approved information collection.

Abstract: Under the USDA Emerging Markets Program, information will be gathered from applicants desiring to receive grants under the program to determine the viability of requests for resources to implement activities in foreign countries. Recipients of grants under the program must submit performance and financial reports throughout the implementation of the project. Documents are used to develop effective grant agreements and assure that statutory requirements and program objectives are met.

Estimate of Burden: The public reporting burden for each respondent resulting from information collection under the USDA Emerging Markets Program varies in direct relation to the number and type of agreements entered into by such respondent. The estimated average reporting burden for the USDA Emerging Markets Program is 6.4 hours per response.

Type of Respondents: U.S. private or government entities such as private organizations, agricultural cooperatives, universities, state departments of agriculture, Federal Agencies, non-profit organizations and export trade associations.

Estimated Number of Respondents: 50 per annum.

Estimated Number of Responses per Respondent: 5 per annum.

Estimated Total Annual Burden of Respondents: 1,600 hours.

Copies of this information collection can be obtained from Lauren Gerald, the Agency Information Collection Coordinator, at Lauren.Gerald@usda.gov.

Request for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology.

FAS is committed to complying with the E-Government Act of 2002 to promote the use of the internet and other information technologies to provide increased opportunities for citizen access to Government information and services, and for other purposes.

Comments will be available for inspection online at http://www.regulations.gov and at the mail address listed above between 8:00 a.m. and 4:30 p.m., Monday through Friday, except holidays.

Persons with disabilities who require an alternative means for communication of information (e.g., Braille, large print, audiotape, etc.) should contact Colette Ross (Human Resources, 202-720-8805) or Jeffrey Galloway (Office of Civil Rights, 202-690-1399).

All comments received in response to this notice, including names and addresses when provided, will be a matter of public record. Comments will be summarized and included in the submission for Office of Management and Budget approval.

Daniel Whitley,
Acting Administrator, Foreign Agricultural Service.

[FR Doc. 2021-03164 Filed 2-16-21; 8:45 am]

BILLING CODE 3410-10-P